DEPARTMENT OF ENERGY

Federal Energy Regulatory Commission

[Docket No. CP14-96-000]

Algonquin Gas Transmission, LLC; Notice of Availability of the Draft Environmental Impact Statement for the Proposed Algonquin Incremental Market Project

The staff of the Federal Energy Regulatory Commission (FERC or Commission) has prepared a draft environmental impact statement (EIS) for the Algonquin Incremental Market Project (AIM Project), proposed by Algonquin Gas Transmission, LLC (Algonquin) in the above-referenced docket. Algonquin requests authorization to expand its existing pipeline system from an interconnection at Ramapo, New York to deliver up to 342,000 dekatherms per day of natural gas transportation service to the Connecticut, Rhode Island, and Massachusetts markets.

The draft EIS assesses the potential environmental effects of the construction and operation of the AIM Project in accordance with the requirements of the National Environmental Policy Act (NEPA). The FERC staff concludes that approval of the proposed project would result in some adverse environmental impacts; however, most of these impacts would be reduced to less-than-significant levels with the implementation of Algonquin's proposed mitigation and the additional measures recommended in the draft EIS.

The U.S. Environmental Protection Agency, the U.S. Army Corps of Engineers, and the U.S. Department of Transportation's Pipeline and Hazardous Materials Safety Administration participated as cooperating agencies in the preparation of the EIS. Cooperating agencies have jurisdiction by law or special expertise with respect to resources potentially affected by the proposal and participate in the NEPA analysis. Although the cooperating agencies provided input to the conclusions and recommendations presented in the draft EIS, the agencies will present their own conclusions and recommendations in their respective records of decision or determinations for the AIM Project.

The draft EIS addresses the potential environmental effects of the construction and operation of about 37.6 miles of pipeline composed of the following facilities:

• Replacement of 26.3 miles of existing pipeline with a 16- and 42-inch-diameter pipeline;

• extension of an existing loop ¹ pipeline with about 3.3 miles of additional 12- and 36-inch-diameter pipeline within Algonquin's existing right-of-way; and

¹ A pipeline loop is a segment of pipe constructed parallel to an existing pipeline to increase capacity.

• installation of about 8.0 miles of new 16-, 24-, and 42-inch-diameter pipeline.

The AIM Project's proposed aboveground facilities consist of modifications to six existing compressor stations, to add a total 81,620 horsepower, in New York, Connecticut, and Rhode Island. Algonquin also proposes to abandon four existing compressor units for a total of 10,800 horsepower at one compressor station in New York.

The FERC staff mailed copies of the draft EIS to federal, state, and local government representatives and agencies; elected officials; environmental and public interest groups; Native American tribes; potentially affected landowners and other interested individuals and groups; newspapers and libraries in the project area; and parties to this proceeding. Paper copy versions of this EIS were mailed to those specifically requesting them; all others received a CD version. In addition, the draft EIS is available for public viewing on the FERC's Web site (www.ferc.gov) using the eLibrary link. A limited number of copies are available for distribution and public inspection at: Federal Energy Regulatory Commission, Public Reference Room, 888 First Street NE., Room 2A, Washington, DC 20426, (202) 502-8371.

Any person wishing to comment on the draft EIS may do so. To ensure consideration of your comments on the proposal in the final EIS, it is important that the Commission receive your comments on or before September 29, 2014.

For your convenience, there are four methods you can use to submit your comments to the Commission. In all instances, please reference the project docket number (CP14-96-000) with your submission. The Commission encourages electronic filing of comments and has expert staff available to assist you at (202) 502-8258 or efiling@ferc.gov. Please carefully follow these instructions so that your comments are properly recorded.

(1) You can file your comments electronically using the eComment feature on the Commission's Web site (www.ferc.gov) under the link to Documents and Filings. This is an easy method for submitting brief, text-only comments on a project;

(2) You can file your comments electronically by using the eFiling feature on the Commission's Web site (www.ferc.gov) under the link to Documents and Filings. With eFiling, you can provide comments in a variety of formats by attaching them as a file with your submission. New eFiling users must first create an account by clicking on “eRegister.” If you are filing a comment on a particular project, please select “Comment on a Filing” as the filing type; or

(3) You can file a paper copy of your comments by mailing them to the following address: Kimberly D. Bose, Secretary, Federal Energy Regulatory Commission, 888 First Street NE., Room 1A, Washington, DC 20426.

(4) In lieu of sending written or electronic comments, the Commission invites you to attend one of the public comment meetings its staff will conduct in the project area to receive comments on the draft EIS. We encourage interested groups and individuals to attend and present oral comments on the draft EIS. Transcripts of the meetings will be available for review in eLibrary under the project docket number. All meetings will begin at 6:30 p.m. and are scheduled as follows:

Date | Location
Monday, September 8, 2014 | Holiday Inn Dedham, 55 Ariadne Road, Dedham, MA 02026, (781) 329-1000.
Tuesday, September 9, 2014 | Holiday Inn Norwich, 10 Laura Blvd., Norwich, CT 06360, (860) 889-5201.
Wednesday, September 10, 2014 | Danbury City Hall, City Council Chambers, 155 Deer Hill Ave, Danbury, CT 06810, (203) 797-4514.
Thursday, September 11, 2014 | Muriel H. Morabito Community Center, 29 Westbrook Drive, Cortlandt Manor, NY 10567, (914) 739-5845

Any person seeking to become a party to the proceeding must file a motion to intervene pursuant to Rule 214 of the Commission's Rules of Practice and Procedures (18 Code of Federal Regulations Part 385.214).² Only intervenors have the right to seek rehearing of the Commission's decision. The Commission grants affected landowners and others with environmental concerns intervenor status upon showing good cause by stating that they have a clear and direct interest in this proceeding which no other party can adequately represent. Simply filing environmental comments will not give you intervenor status, but you do not need intervenor status to have your comments considered.

² See the previous discussion on the methods for filing comments.

Questions

Additional information about the project is available from the Commission's Office of External Affairs, at (866) 208-FERC, or on the FERC Web site (www.ferc.gov) using the eLibrary link. Click on the eLibrary link, click on “General Search,” and enter the docket number excluding the last three digits in the Docket Number field (i.e., CP14-96). Be sure you have selected an appropriate date range. For assistance, please contact FERC Online Support at FercOnline Support@ferc.gov or toll free at (866) 208-3676; for TTY, contact (202) 502-8659. The eLibrary link also provides access to the texts of formal documents issued by the Commission, such as orders, notices, and rulemakings.

In addition, the Commission offers a free service called eSubscription that allows you to keep track of all formal issuances and submittals in specific dockets. This can reduce the amount of time you spend researching proceedings by automatically providing you with notification of these filings, document summaries, and direct links to the documents. Go to www.ferc.gov/docs-filing/esubscription.asp.

Dated: August 6, 2014.
Kimberly D. Bose,
Secretary.

[FR Doc. 2014-19036 Filed 8-11-14; 8:45 am]

BILLING CODE 6717-01-P